DEPARTMENT OF JUSTICE

Antitrust Division

Notice Pursuant to the National Cooperative Research and Production Act of 1993—TM Forum, A New Jersey Non-Profit Corporation

Notice is hereby given that, on January 17, 2024, pursuant to section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances. Specifically, Halleyx Inc., Brampton, CANADA; ZIM Connections Ltd, London, UNITED KINGDOM; Platinion GmbH, Köln, GERMANY; Hewlett Packard Customer Delivery Services SL, Madrid, SPAIN; TIM Brasil, Barra da Tijuca, BRAZIL; Tele2 Kazakhstan, Almaty, KAZAKHSTAN; Mentopolis Consulting & Software Concepts, Niedernberg, GERMANY; BITConEx GmbH, München, GERMANY; Waylay, Gent, BELGIUM; R Software Inc. (dba Rapid), San Francisco, CA; OpenNet A/S, Silkeborg, DENMARK; Nuiva s.a.r,l, Grand-Duché, LUXEMBOURG; GCP Advisors, Philadelphia, PA; Saitro, Itatiba/SP, BRAZIL; Xpert360, Ramsgate, UNITED KINGDOM; Clear Blockchain Technologies Pte Ltd, Singapore, SINGAPORE; Canopus Network Pty Ltd, Haymarket, AUSTRALIA; Locatium.AI, Dubai, UNITED ARAB EMIRATES; Cécile Gérardin, Jougne, FRANCE; Zayo Group, LLC, Boulder, CO; and SK Telecom Co., Ltd., Seoul, REPUBLIC OF KOREA, have been added as parties to this venture.

Also, University College Dublin, Dublin, IRELAND; Accedian, Saint-Laurent, CANADA; AFR-IX telecom S.L., Barcelona, SPAIN; Agile Shift (Pty) Ltd, Durbanville, Cape Town, SOUTH AFRICA; Crossjoin Solutions Lda, Pragal, PORTUGAL; DZS Inc., Plano, TX; Elaine Haher Distinguished Fellow, Piscataway, NJ; Hargray Communications Group, Inc., Hilton Head Island, SC; IBISC—IBGBI—University of Evry Val D'Essonne, Evry, FRANCE; iMocha `Mocha Technologies Inc', Claymont, DE; InCyan Ltd, Bath, UNITED KINGDOM; Multichoice Sparx Services North America, New Richmond, WI; Starbucks, Seatte, WA; Swish Fibre, London, UNITED KINGDOM; Videotron G.P., Montreal, CANADA; WeCity, Maassen, NETHERLANDS; and WorkSpan, Foster City, CA, have withdrawn as parties to this venture.

Additionally, the following members have changed their names: GIP AG to GIP Exyr GmbH, Mainz, GERMANY; Netadmin Systems to Netadmin System i Sverige AB, Linkoping, SWEDEN; avataa GmbH to avataa, Berlin, GERMANY; Beyond Now to Beyond Now GmbH, Graz, AUSTRIA; SEGMA COM to Sigma EMEA, El Sheikh Zayed, EGYPT; Vanrise Solutions to Vanrise, Beirut, LEBANON; alvatross by SATEC to alvatross, Madrid, SPAIN; Stechs Argentina to Stechs, Miami, FL; Nart Bilisim Hizmetleri Ltd. Sti. to TechNarts (Nart Bilisim), Ankara, TURKEY.

No other changes have been made to either the membership or planned activity of the group research project. Membership in this group research project remains open, and The Forum intends to file additional written notifications disclosing all changes in membership.

On October 21, 1988, The Forum filed its original notification pursuant to section 6(a) of the Act. The Department of Justice published a notice in the Federal Register pursuant to section 6(b) of the Act on December 8, 1988 (53 FR 49615).

The last notification was filed with the Department on October 13, 2023. A notice was published in the Federal Register pursuant to section 6(b) of the Act on December 15, 2023 (88 FR 86932).

Suzanne Morris,
Deputy Director Civil Enforcement Operations, Antitrust Division.

[FR Doc. 2024-07981 Filed 4-15-24; 8:45 am]

BILLING CODE P